Proclamation 7553 of May 3, 2002

To Restore Nondiscriminatory Trade Treatment (Normal Trade Relations Treatment) to the Products of Afghanistan

By the President of the United States of America

A Proclamation

1. Section 118(a)(1) of Public Law 99-190, 99 Stat. 1319, authorized the President to deny nondiscriminatory trade treatment to the products of Afghanistan and thereby cause such products to be subject to the rate of duty in column 2 of the Harmonized Tariff Schedule of the United States (HTS).

2. Presidential Proclamation 5437 of January 31, 1986, modified the HTS so as to deny nondiscriminatory trade treatment to the products of Afghanistan.

3. Restoration of nondiscriminatory trade treatment will support U.S. efforts to normalize relations with Afghanistan and facilitate increased trade with the United States, which could contribute to economic growth and assist Afghanistan in rebuilding its economy.

4. Pursuant to section 118(c)(1) of Public Law 99-190, I have determined that it is appropriate to restore nondiscriminatory trade treatment to the products of Afghanistan and thereby cause such products to be subject to the applicable rate of duty in column 1 of the HTS.

NOW, THEREFORE, I, GEORGE W. BUSH, President of the United States of America, acting under the authority vested in me by the Constitution and the laws of the United States, including section 118 of Public Law 99-190, and section 604 of the Trade Act of 1974, as amended (19 U.S.C. 2483), do hereby proclaim that:

(1) Nondiscriminatory trade treatment (normal trade relations treatment) shall be restored to the products of Afghanistan;

(2) General note 3(b) of the HTS is modified to exclude Afghanistan; and

(3) The restoration of nondiscriminatory trade treatment and the modification to general note 3(b) of the HTS shall be effective with respect to goods entered, or withdrawn from warehouse for consumption, on or after the thirtieth day after the date of publication of this proclamation in the Federal Register.

IN WITNESS WHEREOF, I have hereunto set my hand this third day of May, in the year of our Lord two thousand two, and of the Independence of the United States of America the two hundred and twenty-sixth.

B

[FR Doc. 02-11487

Filed 5-6-02; 8:45 am]

Billing code 3195-01-P